DEPARTMENT OF ENERGY

Federal Energy Regulatory Commission

[Docket No. EG01-281-000, et al.]

Fremont Energy Center LLC, et al.; Electric Rate and Corporate Regulation Filings

August 22, 2001.

Take notice that the following filings have been made with the Commission:

1. Fremont Energy Center LLC

[Docket No. EG01-281-000]

Take notice that on August 17, 2001, Fremont Energy Center, LLC (Fremont) filed with the Federal Energy Regulatory Commission (Commission) an application for determination of exempt wholesale generator status pursuant to part 365 of the Commission's regulations.

Fremont, a Delaware limited liability company, proposes to own and operate a 554 MW natural gas-fired, combined cycle, power generation facility, located in Fremont, Ohio. Fremont will sell the output at wholesale to Calpine Energy Services, L.P., and other purchasers.

Comment date: September 12, 2001, in accordance with Standard Paragraph E at the end of this notice. The Commission will limit its consideration of comments to those that concern the adequacy or accuracy of the application.

2. PJM Interconnection, L.L.C.

[Docket No. ER01-1936-002]

Take notice that on August 17, 2001, PJM Interconnection, L.L.C. (PJM) supplemented its July 27, 2001 compliance filing in order to replace Third Revised Sheet No. 207A with Substitute Third Revised Sheet No. 207A to the PJM Open Access Transmission Tariff in order to correct a typographical error.

Copies of this filing have been served on all parties, as well as on all PJM Members, and the state electric regulatory commissions in the PJM control area.

Comment date: September 7, 2001, in accordance with Standard Paragraph E at the end of this notice.

3. Commonwealth Edison Company

[Docket No. ER01-2864-000]

Take notice that on August 17, 2001, Commonwealth Edison Company (ComEd) submitted for filing four Short-Term Firm Point-To-Point Transmission Service Agreements between ComEd and Ameren Energy, Inc. on behalf of Union Electric Company d/b/a AmerenUE, Ameren Energy Marketing Company and Ameren Energy Generating Company (Ameren), Exelon Generation Company, LLC (Exelon), AES NewEnergy, Inc. (AES NewEnergy), and Coral Power, L.L.C. (Coral), three Non-Firm Point-To-Point Transmission Service Agreements between ComEd and Ameren, Exelon and AES NewEnergy, and one executed Network Service Agreement and associated Network Operating Agreement between ComEd and AES NewEnergy under the terms of ComEd's Open Access Transmission Tariff (OATT). ComEd asks that the executed Short-Term Firm Point-To-Point Transmission Service Agreement between ComEd and Coral supersede and be substituted for the unexecuted Short-Term Firm Point-To-Point Transmission Service Agreement with Coral that was previously filed on July 17, 1998 in Docket No. ER98-3779-000 and accepted for filing by the Commission on May 28, 1998.

ComEd also submitted for filing an updated Index of Customers reflecting the name change for current customer Axia Energy, LP renamed Entergy-Koch Trading, L.P. (Entergy-Koch). A copy of this filing has been sent to Ameren, Exelon, AES NewEnergy, Coral and Entergy-Koch.

ComEd requests an effective date of July 19, 2001, and accordingly requests waiver of the Commission's notice requirements.

Comment date: September 7, 2001, in accordance with Standard Paragraph E at the end of this notice.

4. Southwest Power Pool, Inc.

[Docket No. ER01-2867-000]

Take notice that on August 17, 2001, Southwest Power Pool, Inc. (SPP) submitted for filing two service agreements for Firm Point-to-Point Transmission Service and Loss Compensation Service with Higginsville Municipal Utilities (Transmission Customer). SPP requests an effective date of August 9, 2001 for these service agreements.

A copy of this filing was served on the Transmission Customer.

Comment date: September 7, 2001, in accordance with Standard Paragraph E at the end of this notice.

5. Public Service Company of New Mexico

[Docket No. ER01-2885-000]

Take notice that on August 16, 2001, Public Service Company of New Mexico (PNM) submitted for filing two executed service agreements with PPL EnergyPlus, LLC, under the terms of PNM's Open Access Transmission Tariff. One agreement is for non-firm point-to-point transmission service and one agreement is for short-term firm point-to-point transmission service. PNM requests the date of execution as the effective date for the agreements. PNM's filing is available for public inspection at its offices in Albuquerque, New Mexico.

Copies of the filing have been sent to PPL EnergyPlus, LLC, and to the New Mexico Public Regulation Commission.

Comment date: September 6, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21896 Filed 8-29-01; 8:45 am]

BILLING CODE 6717-01-P